NATIONAL TRANSPORTATION SAFETY BOARD

Sunshine Act Meeting

Time and Date: 9:30 a.m., Tuesday, June 22, 2010.

Place: NTSB Conference Center, 429 L'Enfant Plaza, SW., Washington, DC 20594.

Status: The one item is open to the public.

Matter to be Considered: 8092A Highway Accident Report—Bus Loss of Control and Rollover, Dolan Springs, Arizona, January 30, 2009 (HWY-09-MH-009).

News Media Contact: Telephone: (202) 314-6100.

The press and public may enter the NTSB Conference Center one hour prior to the meeting for set up and seating.

Individuals requesting specific accommodations should contact Rochelle Hall at (202) 314-6305 by Friday, June 11, 2010.

The public may view the meeting via a live or archived Webcast by accessing a link under “News & Events” on the NTSB home page at http://www.ntsb.gov.

FOR FURTHER INFORMATION CONTACT: Candi Bing, (202) 314-6403.

Dated: June 11, 2010.
Candi R. Bing,
Federal Register Liaison Officer.

[FR Doc. 2010-14494 Filed 6-11-10; 4:15 pm]

BILLING CODE 7533-01-P